FEDERAL HOUSING FINANCE AGENCY

[No. 2009-N-07]

Submission for OMB Review; Comment Request

AGENCY: Federal Housing Finance Agency.

ACTION: 30-Day notice of submission of information collection for approval from the Office of Management and Budget.

SUMMARY: In accordance with the requirements of the Paperwork Reduction Act of 1995, the Federal Housing Finance Agency (FHFA) is submitting the information collection entitled “Advances to Housing Associates” to the Office of Management and Budget (OMB) for review and approval of a three year extension of OMB control number 2590-0001, which is due to expire on June 30, 2009.

DATES: Interested persons may submit comments on or before June 29, 2009.

ADDRESSES: Submit comments to the Office of Information and Regulatory Affairs of the Office of Management and Budget, Attention: Desk Officer for the Federal Housing Finance Agency, Washington, DC 20503, Fax: 202-395-6974, E-mail address: OIRA_Submission@omb.eop.gov.

For Further Information or Copies of the Information Collection Contact: Jonathan F. Curtis, Financial Analyst, Division of Federal Home Loan Bank Regulation, by telephone at 202-408-2866 (not a toll-free number), by electronic mail at jonathan.curtis@fhfa.gov, or by regular mail at the Federal Housing Finance Agency, 1625 Eye Street, NW., Washington, DC 20006-4001. The telephone number for the Telecommunications Device for the Deaf is 800-877-8339.

SUPPLEMENTARY INFORMATION:

A. Need for and Use of the Information Collection

Section 10b of the Federal Home Loan Bank Act (Bank Act) (12 U.S.C. 1430b) authorizes the Federal Home Loan Banks (Banks) to make advances under certain circumstances to certified nonmember mortgagees. The FHFA refers to nonmember mortgagees as housing associates. In order to be certified as a housing associate, an applicant must meet the eligibility requirements set forth in section 10b of the Bank Act. 12 CFR part 926 implements the statutory eligibility requirements and establishes uniform review criteria an applicant must meet in order to be certified as a housing associate by a Bank. More specifically, sections 926.3 and 926.4 (12 CFR 926.3-926.4) implement the statutory eligibility requirements and provide guidance to an applicant on how it may satisfy such requirements. Section 926.5 (12 CFR 926.5) authorizes the Banks to approve or deny all applications for certification as a housing associate, subject to the statutory and regulatory requirements. Section 926.6 (12 CFR 926.6) permits an applicant to appeal a Bank decision to deny certification to the FHFA.

12 CFR part 950, specifically section 950.17 (12 CFR 950.17), establishes the terms and conditions under which a Bank may make advances to a certified housing associate. Section 950.17 also imposes a continuing obligation on a housing associate to provide information necessary to determine if it remains in compliance with applicable statutory and regulatory requirements.

The information collection contained in sections 926.1 through 926.6 and section 950.17 (12 CFR 926.1-926.6 and 950.17) is necessary to enable the Banks to determine whether an applicant satisfies the statutory and regulatory requirements to be certified initially and maintain its status as a housing associate eligible to receive Bank advances. The FHFA requires and uses the information collection to determine whether to uphold or overrule a Bank decision to deny housing associate certification to an applicant.

The OMB control number for the information collection, which expires on June 30, 2009, is 2590-0001. The likely respondents include applicants for housing associate certification and current housing associates.

B. Burden Estimate

The FHFA estimates the total annual average number of applicants at one, with one response per applicant. The estimate for the average hours per application is 15 hours. The estimate for the annual hour burden for applicants is 15 hours (1 applicant × 1 response per applicant × 15 hours).

The FHFA estimates the total annual average number of maintenance respondents, that is, certified housing associates, at 65, with 1 response per housing associate. The estimate for the average hours per maintenance response is one hour. The estimate for the annual hour burden for certified housing associates is 65 hours (65 certified housing associates × 1 response per associate × 1 hour).

The estimate for the total annual hour burden is 80 hours (65 housing associates × 1 response per associate × 1 hour + 1 applicant × 1 response per applicant × 15 hours).

C. Comment Request

In accordance with 5 CFR 1320.8(d), the FHFA published a request for public comments regarding this information collection in the Federal Register on December 29, 2008. See 73 FR 79484 (December 29, 2008). The 60-day comment period closed on February 27, 2009. The FHFA received no public comments.

Written comments are requested on: (1) Whether the collection of information is necessary for the proper performance of FHFA functions, including whether the information has practical utility; (2) the accuracy of the FHFA estimates of the burdens of the collection of information; (3) ways to enhance the quality, utility and clarity of the information collected; and (4) ways to minimize the burden of the collection of information on applicants and housing associates, including through the use of automated collection techniques or other forms of information technology. Comments may be submitted to OMB in writing at the address listed above.

Dated: May 21, 2009.
James B. Lockhart III,
Director, Federal Housing Finance Agency.

[FR Doc. E9-12398 Filed 5-27-09; 8:45 am]

BILLING CODE 8070-01-P